DEPARTMENT OF TRANSPORTATION

Federal Aviation Administration

14 CFR Part 39

[Docket No. FAA-2004-19038; Directorate Identifier 2004-SW-24-AD]

RIN 2120-AA64

Airworthiness Directives; Eurocopter France Model AS350B, BA, B1, B2, B3, C, D, D1, and EC130 B4 Helicopters

AGENCY: Federal Aviation Administration, DOT.

ACTION: Notice of proposed rulemaking (NPRM).

SUMMARY: This document proposes adopting a new airworthiness directive (AD) for the specified Eurocopter France (ECF) model helicopters. This proposal would require removing and modifying the fuel bleed lever. This proposal is prompted by some cases of loss of the fuel bleed lever in flight. If the tension of the control cable is too low, the cable may vibrate out of its notch, resulting in the fuel bleed lever separating from the hinge. The actions specified by this proposed AD are intended to prevent a fuel bleed lever from separating and striking the tail rotor blade (blade), resulting in damage to or loss of a blade, and subsequent vibration and loss of control of the helicopter.

DATES: Comments must be received on or before November 8, 2004.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from American Eurocopter Corporation, 2701 Forum Drive, Grand Prairie, Texas 75053-4005, telephone (972) 641-3460, fax (972) 641-3527.

You may examine the comments to this proposed AD in the AD docket on the Internet at http://dms.dot.gov.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION:

Comments Invited

We invite you to submit any written data, views, or arguments regarding this proposed AD. Send your comments to the address listed under the caption ADDRESSES. Include the docket number “FAA-2004-19038, Directorate Identifier 2004-SW-24-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

The Direction Generale de L'Aviation Civile (DGAC), the airworthiness authority for France, notified the FAA that an unsafe condition may exist on the Model EC 130 and the AS 350 helicopters. The DGAC advises of some cases of loss of the fuel bleed lever in flight.

ECF has issued Alert Service Bulletin (ASB) Nos. 28A001 for the Model EC130 B4 and 28.00.16 for the civil version of the Model AS350B, BA, BB, B1, B2, B3, D, and the military version of the Model L1 helicopters, both dated March 3, 2004. The ASB's specify removing and modifying the fuel bleed lever. The DGAC classified these ASB's as mandatory and issued AD Nos. F-2004-034 for the Model EC130 B4 pre-MOD 073239 and F-2004-033 for the Model AS350B, BA, BB, B1, B2, B3, and D helicopters, pre-MOD 073239, both dated March 17, 2004, to ensure the continued airworthiness of these helicopters in France.

These helicopter models are manufactured in France and are type certificated for operation in the United States under the provisions of 14 CFR 21.29 and the applicable bilateral agreement. Pursuant to the applicable bilateral agreement, the DGAC has kept us informed of the situation described above. We have examined the findings of the DGAC, reviewed all available information, and determined that AD action is necessary for products of this type design that are certificated for operation in the United States.

This previously described unsafe condition is likely to exist or develop on other helicopters of the same type design registered in the United States. Therefore, the proposed AD would require removing and modifying the fuel bleed lever, part number (P/N) 350A55104320, and reinstalling the modified fuel bleed lever and marking it with P/N 350A08254720. The actions would be required to be done following the ASB's described previously.

We estimate that this proposed AD would:

• Affect 624 helicopters of U.S. registry;

• Take about 1 work hour per helicopter to modify the fuel bleed lever at an average labor rate of $65 per work hour.

• Cost about $300 for consumable materials.

Based on these figures, we estimate the total cost impact of the proposed AD on U.S. operators would be $227,760.

We have determined that this proposed AD would not have federalism implications under Executive Order 13132. Additionally, this proposed AD would not have a substantial direct effect on the States, on the relationship between the national government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic analysis of the estimated costs to comply with this proposed AD. See the DMS to examine the draft economic analysis.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. FAA-2004-19038; Directorate Identifier 2004-SW-24-AD.

Applicability: Model AS350B, BA, B1, B2, B3, C, D, D1, and EC130 B4 helicopters, pre-MOD 073239, with fuel bleed lever, part number (P/N) 350A55104320, installed, certificated in any category.

Compliance: Required within 6 months for the Model EC130 B4 helicopters and within 100 hours time-in-service or 6 months, whichever comes first, for the Model AS350B, BA, B1, B2, B3, C, D, and D1 helicopters, unless accomplished previously.

To prevent a fuel bleed lever from separating and striking the tail rotor blade (blade), resulting in damage to or loss of a blade, and subsequent vibration and loss of control of the helicopter, do the following:

(a) Remove and modify the fuel bleed lever, P/N 350A55104320, by following the Accomplishment Instructions, paragraph 2.B., of Eurocopter Alert Service Bulletin Nos. 28A001 for the Model EC130 B4 and 28.00.16 for the Model AS350B, BA, B1, B2, B3, C, D, and D1 helicopters, both dated March 3, 2004, as applicable. Reinstall the modified fuel bleed lever and mark it with P/N 350A08254720.

(b) To request a different method of compliance or a different compliance time for this AD, follow the procedures in 14 CFR 39.19. Contact the Safety Management Group, FAA, for information about previously approved alternative methods of compliance.

Note: The subject of this AD is addressed in Direction Generale de L'Aviation Civile (France) AD Nos. F-2004-033 and F-2004-034, both dated March 17, 2004.

Issued in Fort Worth, Texas, on August 31, 2004.
Kim Smith,
Acting Manager, Rotorcraft Directorate, Aircraft Certification Service.

[FR Doc. 04-20311 Filed 9-7-04; 8:45 am]

BILLING CODE 4910-15-P